OFFICE OF PERSONNEL MANAGEMENT

[OMB Control No. 3206-0172; Standard Form 3104 and Standard Form 3104B]

Proposed Collection; Request for Comments Review of a Revised Information Collection

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of a revised information collection. “Application for Death Benefits—FERS” (OMB Control No. 3206-0172; Standard Form 3104), is used by persons applying for death benefits which may be payable under FERS because of the death of an employee, former employee, or retiree who was covered by FERS at the time of his/her death or separation from Federal Service. “Documentation and Elections in Support of Application for Death Benefits when Deceased was an Employee at the Time of Death—FERS” (OMB Control No. 3206-0172; Standard Form 3104B), is used by applicants for death benefits under FERS if the deceased was a Federal employee at the time of death.

Comments are particularly invited on: whether this collection of information is necessary for the proper performance of functions of the Office of Personnel Management, and whether it will have practical utility; whether our estimate of the public burden of this collection is accurate, and based on valid assumptions and methodology; and ways in which we can minimize the burden of the collection of information on those who are to respond, through use of the appropriate technological collection techniques or other forms of information technology.

We estimate that approximately 9,607 SF 3104s will be processed annually and each form takes approximately 60 minutes to complete. An annual burden of 9,607 hours is estimated. We estimate that approximately 3,759 SF 3104Bs will be processed annually and each form takes approximately 60 minutes to complete. An annual burden of 3,759 hours is estimated. The total annual estimated burden is 13,366.

For copies of this proposal, contact Cyrus S. Benson on (202) 606-4808, FAX (202) 606-0910 or via e-mail to Cyrus.Benson@opm.gov. Please include a mailing address with your request.

DATES: Comments on this proposal should be received within 60 calendar days from the date of this publication.

ADDRESSES: Send or deliver comments to—James K. Freiert, Deputy Assistant Director, Retirement Services Program, Center for Retirement and Insurance Services, U.S. Office of Personnel Management, 1900 E Street, NW., Room 3305, Washington, DC 20415-3500.

For information regarding administrative Coordination contact: Cyrus S. Benson, Team Leader, Publications Team, RIS Support Services/Support Group, U.S. Office of Personnel Management, 1900 E Street, NW., Room 4H28, Washington, DC 20415, (202) 606-0623.

U.S. Office of Personnel Management.

John Berry,
Director.

[FR Doc. E9-30168 Filed 12-17-09; 8:45 am]

BILLING CODE 6325-38-P